DEPARTMENT OF COMMERCE

International Trade Administration

A-201-802

Gray Portland Cement and Clinker From Mexico: Notice of Extension of the Time Limit for the Preliminary Results of Antidumping Duty Administrative Review

AGENCY: Import Administration, International Trade Administration, Department of Commerce.

EFFECTIVE DATE: April 27, 2005.

FOR FURTHER INFORMATION CONTACT: Jeffrey Frank or Hermes Pinilla, AD/CVD Operations, Office 5, Import Administration, International Trade Administration, U.S. Department of Commerce, 14th Street and Constitution Avenue, NW, Washington, DC 20230; telephone: (202) 482-0090 and (202) 482-3477, respectively.

SUPPLEMENTARY INFORMATION:

Background

On August 29, 1990, the Department of Commerce (the Department) published an antidumping duty order on gray portland cement from Mexico (see 55 FR 35371). In August 2004, the petitioner, the Southern Tier Cement Committee, requested a review of CEMEX S.A. de C.V. (CEMEX), CEMEX's affiliate, GCC Cemento, S.A. de C.V. (GCCC). In addition, in August 2004, CEMEX and GCCC requested reviews of their own sales during the period of review. On September 22, 2004, the Department published in the Federal Register the Initiation of Antidumping and Countervailing Duty Administrative Reviews and Request for Revocation in Part (69 FR 56745) in which it initiated an administrative review of the antidumping duty order on gray portland cement and clinker from Mexico. The period of review is August 1, 2003, through July 31, 2004. The preliminary results of this administrative review are currently due no later than May 3, 2005.

Extension of Time Limit for Preliminary Results

Section 751(a)(3)(A) of the Tariff Act of 1930, as amended (the Act), provides that the Department will issue the preliminary results of an administrative review of an antidumping duty order within 245 days after the last day of the anniversary month of the date of publication of the order. The Act also provides that the Department may extend the 245-day period up to 365 days if it determines that it is not practicable to complete the review within the foregoing time period.

This review involves complex issues regarding sales of a new type of cement and the comparability of these sales, and the Department needs additional time to consider these issues. For these reasons, the Department has determined that it is not practicable to complete the preliminary results within the time limit mandated by section 751(a)(3)(A) of the Act. Therefore, in accordance with that section, the Department is extending the time limit for completion of the preliminary results until no later than August 31, 2005, which is 365 days after the last day of the anniversary month of the date of publication of the order. The Department intends to issue the final results of review 120 days after the publication of the preliminary results.

This notice is issued and published in accordance with section 751(a)(3)(A) of the Act.

Dated: April 20, 2005.
Barbara E. Tillman,
Acting Deputy Assistant Secretary for Import Administration.

[FR Doc. E5-1991 Filed 4-26-05; 8:45 am]

BILLING CODE 3510-DS-S